ENVIRONMENTAL PROTECTION AGENCY

[EPA-HQ-OPP-2017-0214; FRL-9965-61]

Revised Dates for Comment Periods for the November 2017 FIFRA Scientific Advisory Panel

AGENCY: Environmental Protection Agency (EPA).

ACTION: Notice.

SUMMARY: This document provides revised dates for the comment periods for written comments and for comments on nominees for ad hoc members of the Federal Insecticide, Fungicide, and Rodenticide Act, Scientific Advisory Panel (FIFRA SAP). The 3-day meeting will be held on November 28 to November 30, 2017, from approximately 9 a.m. to 5 p.m., as first announced in the Federal Register of June 6, 2017 (82 FR 26097; FRL-9962-79), at which time the SAP will consider and review the Continuing Development of Alternative High-Throughput Screens to Determine Endocrine Disruption, Focusing on Androgen Receptor, Steroidogenesis, and Thyroid Pathways.

Comments

1. FIFRA SAP Documents, Oral and Written Comments, and Listing of Nominees

EPA's background paper, charge/questions to FIFRA SAP, and related supporting materials will be available on or before September 1, 2017. In addition, a list of candidates under consideration as prospective ad hoc panelists for this meeting will be available for public comment by August 22, 2017 (see link for nominee listing at: https://www.epa.gov/sap).

Written comments: Written comments should be submitted, using the instructions under ADDRESSES in Unit I.B., on or before October 16, 2017, to provide FIFRA SAP the necessary time to consider and review the written comments. FIFRA SAP may not fully consider written comments submitted after October 16, 2017.

Oral comments: The Agency encourages each individual or group wishing to make brief oral comments to FIFRA SAP to submit their request to the Designated Federal Official (DFO) listed under FOR FURTHER INFORMATION CONTACT on or before November 7, 2017, to be included on the meeting agenda. Requests to present oral comments will be accepted until the date of the meeting and, to the extent that time permits, the Chair of FIFRA SAP may permit the presentation of oral comments at the meeting by interested persons who have not previously requested time. Oral comments before FIFRA SAP are limited to approximately 5 minutes unless arrangements have been made prior to November 7, 2017. The request should identify the name of the individual making the presentation, the organization (if any) the individual will represent, and any requirements for audiovisual equipment. In addition, each speaker should bring 15 copies of his or her oral remarks and presentation slides (if required) for distribution to FIFRA SAP at the meeting by the DFO.

FIFRA SAP Nominees: Comments on nominees should be provided to the DFO listed under FOR FURTHER INFORMATION CONTACT on or before September 7, 2017. Your comments will be placed in the public docket by the DFO. You may obtain electronic copies of most meeting documents, including FIFRA SAP composition (i.e., members and ad hoc members for this meeting) and the meeting agenda, at http://www.regulations.gov and the FIFRA SAP Web site at http://www.epa.gov/scipoly/sap.

For additional instructions regarding submitting comments, see Unit I.C. of the SUPPLEMENTARY INFORMATION.

2. FIFRA SAP Meeting Minutes

FIFRA SAP will prepare meeting minutes summarizing its recommendations to the Agency approximately 90 days after the meeting. The meeting minutes and report will be posted on the FIFRA SAP Web site or may be obtained from the OPP Docket at http://www.regulations.gov.

ADDRESSES: The meeting will be held at the Environmental Protection Agency, Conference Center, Lobby Level, One Potomac Yard (South Bldg.), 2777 S. Crystal Dr., Arlington, VA 22202.

Submit your comments, identified by Docket Identification (ID) Number EPA-HQ-OPP-2017-0214, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Todd Peterson, DFO, Office of Science Coordination and Policy (7201M), Environmental Protection Agency, 1200 Pennsylvania Ave. NW., Washington, DC 20460-0001; telephone number: (202) 564-6428; email address: peterson.todd@epa.gov.

SUPPLEMENTARY INFORMATION:

I. General Information

A. Does this action apply to me?

This action is directed to the general public. This action may also be of interest to persons who are or may be required to conduct testing of chemical substances under the Federal Food, Drug, and Cosmetic Act (FFDCA) and FIFRA. Since other entities may also be interested, the Agency has not attempted to describe all the specific entities that may be affected by this action.

B. What should I consider as I prepare my comments for EPA?

1. Submitting CBI. Do not submit CBI information to EPA through regulations.gov or email. If your comments contain any information that you consider to be CBI or otherwise protected, please contact the DFO listed under FOR FURTHER INFORMATION CONTACT to obtain special instructions before submitting your comments.

C. Tips for Preparing Your Comments

1. When preparing and submitting your comments, see the commenting tips at http://www.epa.gov/dockets/comments.html.

Authority: 7 U.S.C. 136 et. seq.; 21 U.S.C. 301 et seq.

Dated: July 28, 2017.
Louise P. Wise,
Acting Assistant Administrator, Office of Chemical Safety and Pollution Prevention.

[FR Doc. 2017-16383 Filed 8-2-17; 8:45 am]

BILLING CODE 6560-50-P